ENVIRONMENTAL PROTECTION AGENCY

[FRL-7639-1; EDocket ID No. OAR-2004-0016]

Agency Information Collection Activities: Proposed Collection; Comment Request; Part 70 Operating Permit Regulations, EPA ICR Number 1713.06, OMB Control Number 2060-0243

AGENCY: Environmental Protection Agency (EPA).

ACTION: Notice.

SUMMARY: In compliance with the Paperwork Reduction Act(44 U.S.C. 3501 et seq.), this document announces that EPA is planning to submit a continuing Information Collection Request (ICR) to the Office of Management and Budget (OMB). This is a request to renew an existing approved collection. This ICR is scheduled to expire on October 31, 2004. Before submitting the ICR to OMB for review and approval, EPA is soliciting comments on specific aspects of the proposed information collection as described below.

DATES: Comments must be submitted on or before May 24, 2004.

ADDRESSES: Submit your comments, referencing docket ID number OAR-2004-0015, to EPA online using EDOCKET (our preferred method), by e-mail to “a-and-r-docket@epa.gov,” or by mail to: EPA Docket Center, Environmental Protection Agency, Air and Radiation Docket and Information Center, Mail Code 6102T, 1200 Pennsylvania Ave., NW., Washington, DC 20460.

FOR FURTHER INFORMATION CONTACT: Grecia Castro, Office of Air Quality Planning and Standards, Mail Code C304-04, Environmental Protection Agency, Research Triangle Park, NC 27711; telephone number: (919) 541-1351; fax number: (919) 541-5509; e-mail address: castro.grecia@epa.gov.

SUPPLEMENTARY INFORMATION: The EPA has established a public docket for this ICR under Docket ID number OAR-2004-0015, which is available for public viewing at the Air Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. The EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are those which must apply for and obtain an operating permit under title V of the Clean Air Act (Act). These, in general, include sources which are defined as “major” under any title of the Act.

Title: Part 70 Operating Permits Regulations.

Abstract: Title V of the Act requires States to develop and implement a program for issuing operating permits to all sources that fall under any Act definition of major and certain other non-major sources that are subject to Federal air quality regulations. The Act further requires EPA to develop regulations that establish the minimum requirements for those State operating permits programs and to oversee implementation of the programs. The EPA regulations setting forth requirements for the operating permits programs are at part 70, title 40, chapter I of the Code of Federal Regulations.

In implementing title V of the Act and EPA's part 70 operating permits regulations, State and local permitting agencies must develop programs and submit them to EPA for approval (section 502(d)) and sources subject to the program must develop operating permit applications and submit them to the permitting authority within 1 year after program approval (section 503). Permitting authorities will then issue permits (section 503(c)) and thereafter enforce, revise, and renew those permits at no more than 5-year intervals (section 502(d)). Permit applications and proposed permits will be provided to, and are subject to review by, EPA (section 505(a)). All information submitted by a source and the issued permit shall also be available for public review except for confidential information which will be protected from disclosure (section 503(e)). Sources will semi-annually submit compliance monitoring reports to the permitting authorities (section 504(a)). The EPA has the responsibility to oversee implementation of the program and to administer a Federal operating permits program in the event a program is not approved for a State (section 502(d)(3)) or if EPA determines the permitting authority is not adequately administering its approved program (section 502(i)(4)). The activities to carry out these tasks are considered mandatory and necessary for implementation of title V and the proper operation of the operating permits program. This notice provides updated burden estimates from a previously approved ICR. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The projected cost for implementing the part 70 program from October 31, 2004, until October 31, 2007, are approximately 5.1 million annual burden hours at an annual cost of approximately 171 million dollars. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; train personnel to be able to respond to a collection of information; search data sources; complete and review the collection of information; and transmit or otherwise disclose the information.

The burden hours breakout will be around 1.1 million hours for 112 permitting authorities and about 4 million hours for 17,626 sources. The costs break out to be 40.7 million dollars per year for 112 permitting authorities and 130 million dollars per year for 17,626 sources. During the period of this ICR, permitting authorities (in addition to general administration of the program) primarily will be issuing the remaining permits required by the program (around 1,300), processing revisions for permits that have already been issued, renewing permits whose 5-year terms will expire, and reviewing semiannual, or more frequent, monitoring reports and annual compliance certifications for issued permits. Sources in the part 70 program primarily will be interacting with the permitting authority on permit issuance, be it an initial permit, renewal permit or permit revision; preparing applications for permit renewal or for revisions, as needed; preparing semiannual, or more frequent, monitoring and deviation reports, and annual compliance certification reports; and carrying out periodic monitoring that was created as a result of the program.

Dated: March 10, 2004.
Richard A. Wayland,
Acting Director, Information Transfer and Program Implementation Division.

[FR Doc. 04-6430 Filed 3-22-04; 8:45 am]

BILLING CODE 6560-50-P